DEPARTMENT OF VETERANS AFFAIRS

[OMB Control No. 2900-0799]

Agency Information Collection Activity Under OMB Review: Casket and Urn Allowance

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0799.”

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0799” in any correspondence.

SUPPLEMENTARY INFORMATION:

Authority: 38 U.S.C. 2306. 38 CFR 38.628.

Title: Casket/Urn Allowance, VA Form 40-10088.

OMB Control Number: 2900-0799.

Type of Review: Extension of a currently approved collection.

Abstract: The Department of Veterans Affairs, National Cemetery Administration has established VA regulations to implement statutory authority for NCA to provide allowance for the purchase of caskets and urns for the interment of the remains of Veterans without next of kin and sufficient resources available for burial.

An agency may not conduct or sponsor, and a person is not required to respond to a collection of information unless it displays a currently valid OMB control number. The Federal Register Notice with a 60-day comment period soliciting comments on this collection of information was published at 88 FR 24279, April 19, 2023.

Affected Public: Individuals or households.

Estimated Annual Burden: 56 hours.

Estimated Average Burden per Respondent: 10 minutes.

Frequency of Response: One time.

Estimated Number of Respondents: 336.

By direction of the Secretary.
Maribel Aponte,
VA PRA Clearance Officer, Office of Enterprise and Integration, Data Governance Analytics, Department of Veterans Affairs.

[FR Doc. 2023-13526 Filed 6-23-23; 8:45 am]

BILLING CODE 8320-01-P